DEPARTMENT OF COMMERCE

International Trade Administration

[A-570-075]

Certain Plastic Decorative Ribbon From the People's Republic of China: Final Results of Expedited Sunset Review of the Antidumping Duty Order

AGENCY: Enforcement and Compliance, International Trade Administration, Department of Commerce.

SUMMARY: The U.S. Department of Commerce (Commerce) finds that revocation of the antidumping duty (AD) order on certain plastic decorative ribbon (plastic ribbon) from the People's Republic of China (China) would be likely to lead to continuation or recurrence of dumping. The magnitude of the dumping margins likely to prevail are indicated in the “Final Results of Sunset Review” section of this notice.

DATES: June 6, 2024.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On March 22, 2019, Commerce published the AD order on plastic ribbon from China.¹ On February 1, 2024, Commerce published the notice of initiation of the first five-year sunset review of the Order.² On February 14, 2024, Commerce received a timely notice of intent to participate from Berwick Offray, LLC (Berwick Offray), a domestic interested party, within the deadline specified in 19 CFR 351.218(d)(1)(i).³ On March 1, 2024, Commerce received adequate substantive responses from Berwick Offray within the 30-day period specified in 19 CFR 351.218(d)(3)(i).⁴ Berwick Offray claimed interested party status under section 771(9)(C) of the Tariff Act of 1930, as amended (the Act).⁵ We received no substantive responses from any respondent interested parties. As a result, pursuant to section 751(c)(3)(B) of the Act and 19 CFR 351.218(e)(1)(ii)(C)(2), Commerce conducted an expedited (120-day) sunset review of the Order.

¹ See Certain Plastic Decorative Ribbon from the People's Republic of China: Amended Final Affirmative Antidumping Duty Determination and Antidumping Duty Order; and Countervailing Duty Order, 84 FR 10786 (March 22, 2019) (Order).

² See Initiation of Five-Year (Sunset) Reviews, 84 FR 6499 (February 1, 2024).

³ See Berwick Offray's Letter, “Plastic Decorative Ribbons from China: Notice of Intent to Participate in Sunset Review,” dated February 14, 2024.

⁴ See Berwick Offray's Letter, “Plastic Decorative Ribbons from China: Substantive Response to Notice of Initiation of Sunset Review,” dated March 1, 2024.

⁵ Id.

Scope of the Order

The product covered by this Order is plastic ribbon from China. For a full description of the scope of the Order, see the Issues and Decision Memorandum.⁶

⁶ See Memorandum, “Issues and Decision Memorandum for the Final Results of the Expedited Sunset Review of the Antidumping Duty Order on Certain Plastic Decorative Ribbons from the People's Republic of China,” dated concurrently with, and hereby adopted by, this notice (Issues and Decision Memorandum).

Analysis of Comments Received

All issues raised for the final results of this sunset review are listed in the appendix to this notice and addressed in the Issues and Decision Memorandum. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Final Results of Sunset Review

Pursuant to sections 752(c)(1) and (3) of the Act, Commerce determines that revocation of the Order on plastic decorative ribbons from China would be likely to lead to continuation or recurrence of dumping, and that the magnitude of the margins of dumping likely to prevail if the Order is revoked are as follows:

Exporter/producer | Weighted-average dumping margin (percent)
Ningbo Junlong Craft Gift Co., Ltd | 132.07
Dongguan Ricai Plastic Technology Co., Ltd | 61.99
Kai Feng Decoration (Hui Zhou) Co., Ltd | 105.33
Sheng Yi Decoration (Dong Guan) Co., Ltd | 105.33
Joynice Gifts & Crafts Co., Ltd | 105.33
Nan Mei (Huizhou) Ribbon Art Factory Ltd | 105.33
Shantou Longhu YingXin Art Craft Factory Co. Ltd | 105.33
Colorart Industrial Limited | 105.33
Santa's Collection Shaoxing Co. Ltd | 105.33
Zheijang Shaoxing Royal Arts & Crafts Co., Ltd | 105.33
Wingo Gift & Crafts (Shenzhen) Co., Ltd | 105.33
Xin Seng San Handicraft (ShenZhen) Co., Ltd | 105.33
Xiangxin Decoration Factory | 105.33
Xinghui Packaging Co., Ltd | 105.33
Shenzhen SHS Technology R&D Co., Ltd | 105.33
China-Wide Entity | 370.04

Administrative Protective Order

This notice also serves as the only reminder to parties subject to an administrative protective order (APO) of their responsibility concerning the return or destruction of proprietary information disclosed under APO in accordance with 19 CFR 351.305. Timely written notification of the return or destruction of APO materials or conversion to judicial protective order is hereby requested. Failure to comply with the regulations and terms of an APO is a violation which is subject to sanction.

Notification to Interested Parties

We are issuing and publishing the final results of this expedited sunset review in accordance with sections 751(c), 752(c), and 777(i) of the Act, and 19 CFR 351.218.

Dated: May 31, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margin Likely to Prevail

VII. Final Results of Sunset Review

VIII. Recommendation

[FR Doc. 2024-12353 Filed 6-5-24; 8:45 am]

BILLING CODE 3510-DS-P